DEPARTMENT OF HOUSING AND URBAN DEVELOPMENT

[Docket No. FR-7077-N-11]

Privacy Act of 1974; System of Records

AGENCY: Office of Administration, Office of Chief Human Capital Officer, HUD.

ACTION: Notice of a new system of records.

SUMMARY: Pursuant to the provisions of the Privacy Act of 1974, as amended 5 U.S.C. 552a, the Department of the Housing and Urban Development (HUD), Office of the Chief Human Capital Officer (OCHCO) is issuing a public notice of its intent to establish a Privacy Act System of Records titled, “Anti-Harassment Program”. The Anti-Harassment Program's (AHP) intent is to provide the entire HUD workforce accountability for professional conduct, a mechanism for reporting unwelcome conduct, and prevent potentially harassing activity and promptly correct harassing behaviors. The AHP promotes a “speak-up” culture, bolsters employee morale, and increases employee engagement, satisfaction, and retention. The AHP prevents all harassing conduct before the conduct can become severe or pervasive. As such, the Anti-Harassment Program (AHP) is a mission imperative for all stakeholders.

DATES: Comments will be accepted on or before August 11, 2023. This proposed action will be effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365.

Email: www.privacy@hud.gov.

Mail: Attention: Privacy Office; LaDonne White, Chief Privacy Officer; Office of the Executive Secretariat; 451 Seventh Street SW, Room 10139; Washington, DC 20410-0001.

Instructions: All submissions received must include the agency name and docket number for this rulemaking. All comments received will be posted without change to https://www.regulations.gov. including any personal information provided.

Docket: For access to the docket to read background documents or comments received go to https://www.regulations.gov.

FOR FURTHER INFORMATION CONTACT: LaDonne White; 451 Seventh Street SW, Room 10139; Washington, DC 20410-0001; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD attracts and retains highly qualified and unique individuals into mission-critical positions. Employees are likely to remain with their federal agency if they feel confidence and trustworthiness in the agency's ability to make them feel safe and secure while performing in the capacity of their duties to accomplish their mission and/or strategic goals and/or objectives. The Anti-Harassment Program provides that mechanism for individual to report such harassing conduct and behavior. The agency uses an administrative inquiry and/or investigative process to apply swift and corrective action(s) in order to prevent future instances, and/or to emphasis through training, that type of harassing conduct will not be tolerated, in accordance with the agency's Anti-Harassment Program's Policy.

SYSTEM NAME AND NUMBER:

Anti-Harassment Program, HUD/OCHCO-02.

SECURITY CLASSIFICATION:

Unclassified.

SYSTEM LOCATION:

Records are maintained at the Department of Housing and Urban Development Headquarters, 451 7th Street SW, Washington, DC 20410-0001.

SYSTEM MANAGER(S):

Alejandro Hernandez, Director, Anti-Harassment Program, Office of the Chief Human Capital Officer (OCHCO), Office of 451 Seventh Street SW, Washington, DC 20410-0001.

AUTHORITY FOR MAINTENANCE OF THE SYSTEM:

Title VII of the Civil Rights Act of 1964, as amended, 42 U.S.C. 2000e et seq.; The Age Discrimination in Employment Act of 1967 (ADEA), as amended, 29 U.S.C. 621 et seq.; The Americans with Disabilities Act of 1990 (ADA), as amended by the ADA Amendments Act of 2008, 42 U.S.C. 12101 et seq.

The Genetic Information Nondiscrimination Act of 2008 (GINA), 42 U.S.C. 2000ff note; The Notification and Federal Employee Antidiscrimination and Retaliation Act of 2002, 5 U.S.C. 2301 note.

PURPOSE(S) OF THE SYSTEM:

The purpose of this system is to allow HUD to maintain case files on employees who participate in the Anti-Harassment Program (AHP). These records may be used to help streamline and make more efficient the administrative investigations and anti-harassment processes, while ensuring compliance with applicable laws and regulations, including confidentiality requirements protecting the information individuals submit in support of their harassment claims or other participation in the investigative process.

CATEGORIES OF INDIVIDUALS COVERED BY THE SYSTEM:

Current HUD employees, contractors and HUD volunteers.

CATEGORIES OF RECORDS IN THE SYSTEM:

Full name, age, employment status, gender, marital status, military status, race, religion, sex, work addresses, email addresses, allegations of harassment, information generated during fact-finding investigations, other records related to the investigation, and response taken as a result of the allegation.

RECORD SOURCE CATEGORIES:

Individuals from alleged victims and harassers, witnesses, members of the public, law enforcement officers of other Federal agencies, and other individuals involved with the allegation.

ROUTINE USES OF RECORDS MAINTAINED IN THE SYSTEM, INCLUDING CATEGORIES OF USERS AND PURPOSES OF SUCH USES:

1. To a congressional office from the record of an individual, in response to an inquiry from the congressional office made at the request of that individual.

2. To contractors, grantees, experts, consultants, Federal agencies, and non-Federal entities, including, but not limited to, State and local governments and other research institutions or their parties, and entities and their agents with whom HUD has a contract, service agreement, or grant for the purposes of statistical analysis such as: approved payments and other pertinent and relative information, and research in support of program operations, management, performance monitoring, evaluation, risk management, and policy development, or to otherwise support the Department's mission.

3. To contractors, grantees, experts, consultants and their agents, or others performing or working under a contract, service, grant, or cooperative agreement with HUD or under contract to another agency when necessary to accomplish an agency function related to a system of records. Disclosure requirements are limited to only those data elements considered relevant to accomplishing an agency function.

4. To appropriate agencies, entities, and persons when: (I) HUD suspects or has confirmed that there has been a breach of the system of records; (2) HUD has determined that as a result of the suspected or confirmed breach there is a risk of harm to individuals, HUD (including its information systems, programs, and operations), the Federal Government, or national security; and (3) The disclosure made to such agencies, entities, and persons is reasonably necessary to assist in connection with HUD's efforts to respond to the suspected or confirmed breach or to prevent, minimize, or remedy such harm.

5. To another Federal agency or Federal entity, when HUD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

6. To appropriate Federal, State, local, tribal, or governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

7. To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

8. To any agency, person, or entity in the course of an investigation to the extent necessary to obtain information pertinent to the investigation.

9. To the alleged victim or harasser, or their representatives, the minimal information necessary to provide the status or the results of the investigation or case involving them.

10. To the Office of Personnel Management (OPM), the Merit Systems Protection Board (and its office of the Special Counsel), the Federal Labor Relations Authority (and its General Counsel), or the Equal Employment Opportunity Commission when requested in performance of their authorized duties of exclusive representation concerning personnel policies, practices, and matters affecting work conditions.

11. To officials of labor organizations recognized under 5 U.S.C. Chapter 71 when relevant and necessary to their duties of exclusive representation concerning personnel policies, practices, and matters affecting conditions of employment.

12. To Federal, State, or local law enforcement agencies and privacy security contractors, as appropriate, information necessary: (1) to enable them to protect the safety of HUD employees, the security of the HUD workplace, the operation of HUD facilities, or (2) to assist investigations or prosecutions with respect to activities that affect such safety and security or activities that disrupt the operations of HUD facilities.

POLICIES AND PRACTICES FOR STORAGE OF RECORDS:

Electronic records.

POLICIES AND PRACTICES FOR RETRIEVAL OF RECORDS:

Full name and case file numbers.

POLICIES AND PRACTICIES FOR RETENTION AND DISPOSAL OF RECORDS:

Temporary: Destroy 7 years after close of case, but longer retention is authorized if required for business use.

ADMINISTRATIVE, TECHNICAL, AND PHYSICAL SAFEGUARDS:

Administrative Safeguards: No paper records.

Technical Safeguards: Comprehensive electronic records are maintained and stored on a shared drive in an electronic encryption database system. These records can only be accessed based off the user's rights and privileges to the system. Electronic records are stored on the Share Drive environment, which runs on the Department's network (HUD). This environment complies with the security and privacy controls and procedures as described in the Federal Information Security Management Act (FISMA), National Institute of Standards and Technology (NIST) Special Publications, and Federal Information Processing Standards (FIPS). A valid HSPD-12 ID Credential, access to HUD's LAN, a valid UserID and Password and a Personalized Identification Number (PIN) is required in order to access the records. These records are restricted to only those persons with a role in the Anti-Harassment Program, having a need to access them in the performance of their official duties.

For Electronic Records (cloud based): Comprehensive electronic records are secured and maintained on a cloud-based software server and operating system that resides in Federal Risk and Authorization Management Program (FedRAMP) and Federal Information Security Management Act (FISMA) Moderate dedicated hosting environment. All data located in the cloud-based server is firewalled and encrypted at rest and in transit. The security mechanisms for handing data at rest and in transit are in accordance with HUD encryption standards.

RECORD ACCESS PROCEDURES:

Individuals requesting records of themselves should address written inquiries to the Department of Housing Urban and Development 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

N/A.

HISTORY:

N/A.

LaDonne White,
Chief Privacy Officer, Office of Administration.

[FR Doc. 2023-14788 Filed 7-11-23; 8:45 am]

BILLING CODE P